DEPARTMENT OF TRANSPORTATION

Pipeline and Hazardous Materials Safety Administration

49 CFR Parts 171, 173, and 178

[Docket No. PHMSA-2015-0271 (HM-261)]

RIN 2137-AF15

Hazardous Materials: Incorporation by Reference Edition Update for the American Society of Mechanical Engineers Boiler and Pressure Vessel Code and Transportation Systems for Liquids and Slurries: Pressure Piping Code

Correction

In rule document 2016-10027 appearing on pages 25613-25618 in the issue of Friday, April 29, 2016, make the following correction:

On page 25614, in the first column, in the “DATES:” section, beginning on the 14th line, “[insert date 60 days after publication in the Federal Register]” should read “June 28, 2016”.

[FR Doc. C1-2016-10027 Filed 5-13-16; 8:45 am]

BILLING CODE 1505-01-D